DEPARTMENT OF COMMERCE

International Trade Administration

[A-307-820, A-533-823, and A-834-807]

Silicomanganese From Kazakhstan, India and Venezuela; Notice of Postponement of Preliminary Determinations in Antidumping Duty Investigations

AGENCY: Import Administration, International Trade Administration, Department of Commerce.

ACTION: Notice of postponement of preliminary determinations in antidumping duty investigations.

SUMMARY: The Department of Commerce (the Department) is postponing the preliminary determinations in the antidumping duty investigations of silicomanganese from Kazakhstan, India, and Venezuela from October 15, 2001, until no later than November 2, 2001. This postponement is made pursuant to section 733(c)(1)(B) of the Tariff Act of 1930, as amended by the Uruguay Round Agreements Act.

EFFECTIVE DATE: October 19, 2001.

FOR FURTHER INFORMATION CONTACT: Jean Kemp (Kazakhstan), at (202) 482-4037, Sally Gannon (India), at (202) 482-0162, and Robert James (Venezuela), at (202) 482-0649, Import Administration, International Trade Administration, U.S. Department of Commerce, 14th Street and Constitution Avenue, NW., Washington DC 20230.

SUPPLEMENTARY INFORMATION:

Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the regulations codified at 19 CFR Part 351 (2000).

Postponement of Due Date for Preliminary Determinations

On April 26, 2001, the Department initiated antidumping duty investigations of imports of silicomanganese from Kazakhstan, India, and Venezuela. The notice of initiation stated that we would issue our preliminary determinations no later than 140 days after the date of initiation. See 66 FR 22209 (May 3, 2001). On August 17, 2001, petitioners made a timely request pursuant to 19 CFR 351.205(e) for a 30-day postponement, pursuant to section 733(c)(1)(A) of the Act. On September 17, Universal Ferro & Allied Chemical, Ltd. from India submitted a request that the Department fully extend the preliminary determination because of the time constraints. On September 24, Kazchrome and Considar submitted a request that the Department determine that the investigation on silicomanganese from Kazakhstan was extraordinarily complicated and postpone the preliminary determination to the full extent possible. On August 31, 2001, in accordance with petitioners' request for a postponement, the Department postponed the preliminary determinations in these investigations for 30 days. See 66 FR 45964. Currently, the preliminary determinations in these investigations are due on October 15, 2001.

However, pursuant to section 733(c)(1)(B) of the Act, we have determined that these investigations are “extraordinarily complicated” and are therefore fully extending the due date for the preliminary determinations to no later than November 2, 2001.

Under section 733(c)(1)(B), the Department can extend the period for reaching a preliminary determination until not later than the 190th day after the date on which the administering authority initiates an investigation if:

(B) The administering authority concludes that the parties concerned are cooperating and determines that:

(i) The case is extraordinarily complicated by reason of:

(I) The number and complexity of the transactions to be investigated or adjustments to be considered;

(II) The novelty of the issues presented;

(III) The number of firms whose activities must be investigated; and

(ii) Additional time is necessary to make the preliminary determination.

Regarding the first requirement, we find that in each case all concerned parties are cooperating. Regarding the second requirement, we find that each of these four cases is extraordinarily complicated for the following reasons:

Kazakhstan

The Kazakhstani investigation is extraordinarily complicated because the Government of Kazakhstan and Transnational Co. Kazchrome and Aksu Ferroalloy Plant (“Kazchrome”), the producer, requested that the Department revoke Kazakhstan's non-market economy status or determine that the silicomanganese industry in Kazakhstan is a “market oriented industry.” In addition, Kazchrome claims it does not have knowledge of which of its export sales to Alloy 2000, a trading company, are destined to the United States. The Department is considering other complex issues such as the relationship between Considar, a U.S.-based selling agent, and Alloy 2000, as well as the appropriate date of sale.

India

The Indian investigation is extraordinarily complicated because of certain sales and cost issues including depreciation, date of sale, and cost of production. In addition, one of the companies is not represented by counsel. The Department has just sent out extensive supplemental questionnaires for each of the two companies, and we consider the information to be analyzed for these two companies within the time constraints of this investigation to be voluminous.

Venezuela

The Venezuelan investigation is extraordinarily complicated due to complex issues related to date of sale, cost of production, and affiliation.

This notice is issued and published pursuant to section 733(c)(2) of the Act and 19 CFR 351.205(f).

Dated: October 10, 2001.
Faryar Shirzad,
Assistant Secretary for Import Administration.

[FR Doc. 01-26448 Filed 10-18-01; 8:45 am]

BILLING CODE 3510-DS-P